DEPARTMENT OF COMMERCE

National Oceanic and Atmospheric Administration

[I.D. 012904B]

Western Pacific Fishery Management Council; Public Meeting

AGENCY: National Marine Fisheries Service (NMFS), National Oceanic and Atmospheric Administration (NOAA), Commerce.

ACTION: Notice of public meeting.

SUMMARY: The 85th meeting of the Western Pacific Fishery Council's Scientific and Statistical Committee (SSC) will convene February 24-26, 2004, in Honolulu, HI.

DATES: The SSC meeting will be held on February 24-26, 2004. The meeting will be held from 9 a.m. to 5 p.m. on February 24, 2004, and from 8:30 a.m. to 5 p.m. on February 25-26, 2004.

ADDRESSES: The 83rd SSC meeting will be held at the Council office conference room, 1164 Bishop St., Suite 1400, Honolulu, HI; telephone: 808-522-8220.

Council address: Western Pacific Fishery Management Council, 1164 Bishop St., Suite 1400, Honolulu, HI 96813.

FOR FURTHER INFORMATION CONTACT: Kitty M. Simonds, Executive Director; telephone: 808-522-8220.

SUPPLEMENTARY INFORMATION: The SSC will discuss and may make recommendations to the Council on the agenda items below. The order in which agenda items will be addressed can change.

Tuesday, February 24, 2004, 9 a.m.

1. Introductions

2. Approval of Draft Agenda and Assignment of Rapporteurs

3. Approval of the Minutes of the 84th Meeting

4. Ecosystem and Habitat

A. Ecosystem-based management on a Archipelagic basis

B. Draft Report on the Coral Reef Fish Stock Assessment Workshop

C. Development of Northwestern Hawaiian Islands Sanctuary Alternatives: Criteria and Rationale

D. Review of the Council draft Marine Protected Area Policy

E. National Bycatch Implementation Plan

F. Public comment

G. Discussion and recommendations

5. Bottomfish

A. New Zealand Deep-slope fishery workshop

B. Status of Seamount groundfish moratorium

C. Summary of Opakapaka tagging study in Main Hawaiian Islands in the late 1980s

D. Report on Hawaii Undersea Research Laboratory bottomfish survey

E. Report on stock assessment workshop

F. Public comment

G. Discussion and recommendations

6. Protected Species

A. Council Sea Turtle Conservation Program

B. Hawaii Exclusive Economic Zone (EEZ) Marine Mammal Surveys

C. Northwestern Hawaiian Islands (NWHI) Ecosystem modeling

D. Public comment

E. Discussion and recommendations

7. Crustaceans Fisheries (NWHI lobsters)

A. Update on MULTIFAN C-L Lobster Model

B. Public comment

C. Discussion and recommendations

8. Precious Corals

A. New Precious Coral Beds in NWHI

B. Public comment

C. Discussion and recommendations

Wednesday, February 25, 2004, 8:30 a.m.

9. Pelagic Fisheries

A. American Samoa and Hawaii Longline Fisheries

1. Quarterly Reports

2. Southern albacore Catch Per Unit Effort in 2003

B. Turtle management

1. Council's Regulatory Amendment and Draft Supplemental Environmental Impact Statement.

2. Post-hooking mortality workshop

3. Risk assessment seminar

C. Methods of analyzing observer data

D. Seabird conservation

1. Update on Hawaiian archipelago albatross nesting populations

2. Consideration of side-setting as a seabird mitigation option for Hawaii-based longliners

E. Marlin Management

F. Private Fish Aggregating Devices

G. Shark management

H. International Meetings

1. Bellagio Conference: Conservation and Sustainable Multilateral Management of Sea Turtles in the Pacific Ocean

2. 4th meeting of the Interim Scientific Committee for Tuna and Tuna-like species in the North Pacific

3. Inter-American Tropical Tuna Commission 4th Bycatch Working Group

4. Asia-Region Seabird Bycatch Workshop

5. Western Pacific Sea-turtle Database Meeting

6. 2nd Meeting of the Parties to the Memorandum of Understanding on the Conservation and Management of Marine Turtles and their Habitats of the Indian Ocean and South-East Asia

I. Public comment

J. Discussion and recommendations

Thursday, February 26, 2004, 8:30 a.m.

10. Other Business

A. Guam voluntary community monitoring program options

B. Pacific Islands Region and Council streamline strategic plan

C. 86th SSC meeting

11. Summary of SSC Recommendations to the Council

Special Accommodations

This meeting is physically accessible to people with disabilities. Requests for sign language interpretation or other auxiliary aids should be directed to Kitty M. Simonds, 808-522-8220 (voice) or 808-522-8226 (fax), at least 5 days prior to the meeting date.

Dated: February 5, 2004.
Tracey Thompson,
Acting Director, Office of Sustainable Fisheries, National Marine Fisheries Service.

[FR Doc. E4-238 Filed 2-9-04; 8:45 am]

BILLING CODE 3510-22-S